DEPARTMENT OF VETERANS AFFAIRS

[OMB Control No. 2900-0154]

Agency Information Collection Activity Under OMB Review: Application For VA Education Benefits; Application For Family Member To Use Transferred Benefits; Application For VA Benefits Under The National Call To Service Program

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before November 27, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0154” in any correspondence.

FOR FURTHER INFORMATION CONTACT: Danny S. Green at (202) 421-1354.

SUPPLEMENTARY INFORMATION:

Authority: 38 U.S.C. 3034; 3241, 3323(a), 3471, 5101(a); Public Law 96-342, sections 901 and 903; and 10 U.S.C. 16136(b).

Title: Application For VA Education Benefits (VA Form 22-1990); Application For Family Member To Use Transferred Benefits (VA Form 22-1990E); Application For VA Benefits Under The National Call To Service Program (VA Form 22-1990N).

OMB Control Number: 2900-0154.

Type of Review: Revision of a currently approved collection.

Abstract: The claimant uses this form to submit an initial (or “original”) claim for VA education benefits. The information requested on this form helps VA determine the applicant's eligibility to education benefits. To streamline the application process for the claimant, we have divided one large application into three, removing the two least used programs (National Call to Service (NCS) Transfer of Entitlement (TOE) and developed separate applications for those programs, the VA Form 22-1990E and VA Form 22-1990N.

An agency may not conduct or sponsor, and a person is not required to respond to a collection of information unless it displays a currently valid OMB control number. The Federal Register Notice with a 60-day comment period soliciting comments on this collection of information was published at 84 FR 17147 on October 11, 2019, page 17147.

Affected Public: Individual and households.

Estimated Annual Burden: 248,916.

Estimated Average Burden per Respondent: 20 minutes (Electronic Submissions). 15 minutes (Paper Submissions).

Frequency of Response: Once.

Estimated Number of Respondents: 807,296.

By direction of the Secretary.
Danny S. Green,
VA Interim Clearance Officer, Office of Quality, Performance and Risk, Department of Veterans Affairs.

[FR Doc. 2019-23439 Filed 10-25-19; 8:45 am]

BILLING CODE 8320-01-P